SUSQUEHANNA RIVER BASIN COMMISSION

Actions Taken at March 9, 2017, Meeting

AGENCY: Susquehanna River Basin Commission.

ACTION: Notice.

SUMMARY: As part of its regular business meeting held on March 9, 2017, in Scranton, Pennsylvania, the Commission took the following actions: (1) Approved or tabled the applications of certain water resources projects; and (2) took additional actions, as set forth in the SUPPLEMENTARY INFORMATION below.

DATES: March 9, 2017.

ADDRESSES: Susquehanna River Basin Commission, 4423 N. Front Street, Harrisburg, Pa.17110-1788.

FOR FURTHER INFORMATION CONTACT: Jason E. Oyler, General Counsel, telephone: (717) 238-0423, ext. 1312; fax: (717) 238-2436; email: joyler@srbc.net. Regular mail inquiries may be sent to the above address. See also Commission Web site at www.srbc.net.

SUPPLEMENTARY INFORMATION: In addition to the actions taken on projects identified in the summary above and the listings below, the following items were also presented or acted upon at the business meeting: (1) Adoption of a budget for the 2018 fiscal year; (2) approval/ratification of two grant agreements; (3) adoption of a resolution setting a five-year docket term for withdrawals related to unconventional natural gas under the discretion provided in 18 CFR 806.31(a); and (4) a report on delegated settlements with the following project sponsors, pursuant to SRBC Resolution 2014-15: Talen Energy Corp./Susquehanna Nuclear, in the amount of $9,000; Sugar Hollow Trout Park and Hatchery, in the amount of $2,000; Mount Nittany Medical Center, in the amount of $8,993.75; Toggenburg Mountain Winter Sports Center, in the amount of $3,500; and Moxie Freedom LLC, in the amount of $8,500.

Project Applications Approved

The Commission approved the following project applications:

1. Project Sponsor and Facility: Anadarko E&P Onshore LLC (West Branch Susquehanna River), Nippenose Township, Lycoming County, Pa. Renewal of surface water withdrawal of up to 0.720 mgd (peak day) (Docket No. 20130301).

2. Project Sponsor and Facility: Cabot Oil & Gas Corporation (Meshoppen Creek), Lemon Township, Wyoming County, Pa. Renewal of surface water withdrawal of up to 0.500 mgd (peak day) (Docket No. 20121202).

3. Project Sponsor and Facility: Crossgates Golf Course, Manor Township and Millersville Borough, Lancaster County, Pa. Renewal of consumptive water use of up to 0.300 mgd (peak day) (Docket No. 19910515).

4. Project Sponsor and Facility: Crossgates Golf Course (Conestoga River), Manor Township and Millersville Borough, Lancaster County, Pa. Renewal of surface water withdrawal of up to 0.300 mgd (peak day) (Docket No. 19910515).

5. Project Sponsor: Pennsylvania Department of Environmental Protection—South-central Regional Office, City of Harrisburg, Dauphin County, Pa. Facility Location: Leacock Township, Lancaster County, Pa. Groundwater withdrawal of up to 0.020 mgd (peak day) and emergency or backup groundwater withdrawal of up to 0.173 mgd (peak day) from Hollander Well.

6. Project Sponsor and Facility: Pennsylvania General Energy Company, L.L.C. (First Fork Sinnemahoning Creek), Wharton Township, Potter County, Pa. Renewal of surface water withdrawal of up to 0.231 mgd (peak day) (Docket No. 20121222).

7. Project Sponsor and Facility: Silver Springs Ranch, LLC, Monroe Township, Wyoming County, Pa. Consumptive water use of up to 0.087 mgd (peak day).

8. Project Sponsor and Facility: Silver Springs Ranch, LLC, Monroe Township, Wyoming County, Pa. Groundwater withdrawal of up to 0.088 mgd (30-day average) from Borehole 1 (BH-1).

9. Project Sponsor: SUEZ Water Pennsylvania Inc. Project Facility: Dallas Operation, Dallas Township, Luzerne County, Pa. Modification to remove pumping restriction for March and April for previously approved groundwater withdrawal (Docket No. 20050301).

10. Project Sponsor and Facility: SWEPI LP (Pine Creek), Pike Township, Potter County, Pa. Renewal of surface water withdrawal of up to 0.936 mgd (peak day) (Docket No. 20130313).

11. Project Sponsor and Facility: Repsol Oil & Gas USA, LLC (formerly Talisman Energy USA Inc.) (Sugar Creek), West Burlington Township, Bradford County, Pa. Renewal of surface water withdrawal of up to 0.750 mgd (peak day) (Docket No. 20130310).

12. Project Sponsor and Facility: West Manchester Township Authority, West Manchester Township, York County, Pa. Reactivation of a previously approved groundwater withdrawal at a reduced rate of up to 0.183 mgd (30-day average) from Well 7.

13. Project Sponsor and Facility: York County Solid Waste and Refuse Authority, Manchester Township, York County, Pa. Renewal of consumptive water use of up to 0.999 mgd (peak day) and addition of collected stormwater as an approved source for consumptive use (Docket No. 19860902).

Project Applications Tabled

The Commission tabled action on the following project applications:

1. Project Sponsor and Facility: DS Services of America, Inc., Clay Township, Lancaster County, Pa. Application for groundwater withdrawal of up to 0.028 mgd (30-day average) from existing Well 4.

2. Project Sponsor and Facility: DS Services of America, Inc., Clay Township, Lancaster County, Pa. Application for groundwater withdrawal of up to 0.042 mgd (30-day average) from existing Well 5.

3. Project Sponsor: King Valley Golf Club, Inc. Project Facility: King Valley Golf Course (Boiling Springs Run), Kimmel Township, Bedford County, Pa. Application for surface water withdrawal of up to 0.090 mgd (peak day).

4. Project Sponsor: King Valley Golf Club, Inc. Project Facility: King Valley Golf Course, Kimmel Township, Bedford County, Pa. Application for consumptive water use of up to 0.090 mgd (peak day).

5. Project Sponsor and Facility: Mount Joy Borough Authority, Mount Joy Borough, Lancaster County, Pa. Application for modification to request a reduction of the maximum instantaneous rate for Well 3 from the previously approved rate of 1,403 gpm to 778 gpm and to revise the passby to be consistent with current Commission policy (Docket No. 20070607). The previously approved withdrawal rate of 1.020 mgd (30-day average) will remain unchanged.

6. Project Sponsor: Talen Energy Corporation. Project Facility: Royal Manchester Golf Links, East Manchester Township, York County, Pa. Minor modification to add new sources (Wells PW-1 and PW-6) to existing consumptive use approval (Docket No. 20060604). The previously approved consumptive use quantity of 0.360 mgd (peak day) will remain unchanged.

7. Project Sponsor: Talen Energy Corporation. Project Facility: Royal Manchester Golf Links, East Manchester Township, York County, Pa. Application for groundwater withdrawal of up to 0.145 mgd (30-day average) from Well PW-1.

8. Project Sponsor: Talen Energy Corporation. Project Facility: Royal Manchester Golf Links, East Manchester Township, York County, Pa. Application for groundwater withdrawal of up to 0.298 mgd (30-day average) from Well PW-6.

Authority: Pub. L. 91-575, 84 Stat. 1509 et seq., 18 CFR parts 806, 807, and 808.

Dated: March 21, 2017.
Stephanie L. Richardson,
Secretary to the Commission.

[FR Doc. 2017-05911 Filed 3-24-17; 8:45 am]

BILLING CODE 7040-01-P